DEPARTMENT OF TRANSPORTATION

Federal Aviation Administration

Notice of Opportunity for Public Comment To Dispose of 4.68 Acres of Airport Land at Houlton International Airport, Houlton, ME

AGENCY: Federal Aviation Administration (FAA), DOT.

ACTION: Request for public comments.

SUMMARY: Notice is being given that the FAA is considering a request from the Town of Houlton to dispose of 4.68 acres of land. The parcel is located within the airport industrial park as is not needed for aeronautical purposes. There is adequate developable area on the airport to meet the future twenty year need for projected activity. The airport will obtain fair market value for the disposal of the land and the income derived from this disposal will be placed in the airport's operation and maintenance funds for the facility.

DATES: Comments must be received on or before September 26, 2018.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts on November 20, 2017.
Gail Lattrell,
Acting Director, ANE-600.

[FR Doc. 2018-18512 Filed 8-24-18; 8:45 am]

BILLING CODE 4910-13-P